DEPARTMENT OF HEALTH AND HUMAN SERVICES

Renewal of Charter for the Presidential Advisory Council on HIV/AIDS

AGENCY: Office of HIV/AIDS and Infectious Disease Policy, Office of the Assistant Secretary for Health, Office of the Secretary, Department of Health and Human Services.

ACTION: Notice.

SUMMARY: The Department of Health and Human Services is hereby giving notice that the charter for the Presidential Advisory Council on HIV/AIDS (PACHA; the Council) has been renewed.

FOR FURTHER INFORMATION CONTACT: Ms. Caroline Talev, Public Health Assistant, Presidential Advisory Council on HIV/AID, Department of Health and Human Services, 200 Independence Avenue SW., Room 443H, Washington, DC 20201; (202) 205-1178; email: caroline.talev@hhs.gov. More detailed information about PACHA can be obtained by accessing the Council's Web site, www.aids.gov/pacha.

SUPPLEMENTARY INFORMATION: PACHA is a non-discretionary Federal advisory committee. The Council was established under Executive Order 12963, dated June 14, 1993, and amended under Executive Order 13009, dated June 14, 1995. PACHA is governed by the provisions of the Federal Advisory Committee Act (FACA), Public Law 92-463, as amended (5 U.S.C. App.). The Council provides advice, information, and recommendations to the Secretary regarding programs and policies to promote effective prevention and cure of HIV disease and AIDS. The functions of the Council are solely advisory in nature.

To carry out its mission, PACHA provides advice, information, and recommendations to the Secretary regarding programs and policies to (a) Reduce HIV incidence; (b) advance research on HIV/AIDS; (c) improve health outcomes and ensure people living with HIV have access to quality health care; (d) address HIV-related health disparities; and (e) provide global leadership in responding to the HIV pandemic and expand access to treatment, care, and prevention for people infected with and affected by HIV/AIDS around the world.

On July 26, 2013, the Secretary of Health and Human Services approved for the PACHA charter to be renewed. One amendment was approved for the charter. It was approved for the subcommittee structure of the Council to be amended to authorize utilization of non-member special consultants. The use of non-member special consultants will allow for more input and involvement from stakeholders in the HIV/AIDS community in the PACHA deliberative process. The new charter was effected and filed with the appropriate Congressional offices and Library of Congress on July 27, 2013. Renewal of the PACHA charter gives authorization for the Council to continue to operate until July 27, 2015.

A copy of the PACHA charter is available on the Council Web site at www.aids.gov/pacha. A copy of the charter also can be obtained by accessing the FACA database that is maintained by the Committee Management Secretariat under the General Services Administration. The Web site address for the FACA database is www.fido.gov/facadatabase.

Dated: August 8, 2013.
B. Kaye Hayes,
Executive Director, Presidential Advisory Council on HIV/AIDS.

[FR Doc. 2013-19781 Filed 8-14-13; 8:45 am]

BILLING CODE 4150-43-P